DEPARTMENT OF COMMERCE

National Oceanic and Atmospheric Administration

[I.D. 032703C]

Endangered and Threatened Species; Take of Anadromous Fish

AGENCY: National Marine Fisheries Service (NMFS), National Oceanic and Atmospheric Administration (NOAA), Commerce.

ACTION: Application for scientific research and enhancement of survival permit (1425).

SUMMARY: Notice is hereby given that NMFS has received an application for a scientific research and enhancement permit from Fish First, a non-profit organization, pursuant to the Endangered Species Act, as amended (ESA). The permit application is for the take of ESA-listed adult and juvenile salmon associated with enhancement and restoration of salmon habitat activities in the Lewis River basin in the State of Washington, more fully described below (see SUPPLEMENTARY INFORMATION).

DATES: Comments or requests for a public hearing on the permit application must be received at the appropriate address or fax number (see Address) no later than 5 p.m Pacific daylight time on May 2, 2003. Anyone requesting a hearing should state the specific reasons why a hearing would be appropriate (see ADDRESSES). The holding of such hearing is at the discretion of the Assistant Administrator for Fisheries, NOAA.

ADDRESSES: Written comments on the application should be sent to Washington State Branch Office, Habitat Conservation Division, 510 Desmond Drive SE, Suite 103, Lacey, WA 98503. Comments may also be sent via fax to 360-753-9517. Comments will not be accepted if submitted via e-mail or the internet. Requests for the permit application should be directed to the Washington State Branch office (address above). The application also is available on the internet at http://www.nwr.noaa.gov/ or it may be reviewed by appointment during business hours at the Washington State Branch office by calling 360-753-9530.

FOR FURTHER INFORMATION CONTACT: Stephanie Ehinger, Washington State Branch Office Habitat Division, Lacey, Washington (ph: 360-534-9341, e-mail: stephanie.ehinger@noaa.gov); or Dan Guy at the same office (ph: 360-534-9342; e-mail: dan.guy@noaa.gov).

SUPPLEMENTARY INFORMATION:

Authority

Section 9 of the ESA and Federal regulations prohibit the “taking” of a species listed as endangered or threatened. The term take under the ESA means harass, harm, pursue, hunt, shoot, wound, kill, trap, capture, or collect, or to attempt to engage in any such conduct (16 U.S.C. 1532(19)). Under limited circumstances, NMFS may issue permits to take listed species, such as scientific research and enhancement permits issued under Section 10(a)(1)(A) of the ESA (16 U.S.C.1531 et. seq.) and Federal regulations found at 50 CFR 222.308. NMFS issues permits based on findings that such permits: (1) are applied for in good faith; (2) if granted and exercised would not operate to the disadvantage of the listed species that are the subject of the permit; and (3) are consistent with the purposes and policy of section 2 of the ESA. The authority to take listed species is subject to conditions set forth in the permit.

Species Covered in this Notice

The following listed species and evolutionary significant units (ESUs) are covered in this notice:

Chinook salmon (Oncorhynchus tshawytscha): Threatened Lower Columbia River (LCR),

Steelhead (O. mykiss): Threatened LCR, and

Chum salmon (O.keta): Threatened LCR.

Background

Fish First requests a 5-year permit for annual take of adult and juvenile threatened LCR chinook salmon, threatened LCR steelhead and threatened LCR chum salmon. Fish First is a 501(c)(3) non-profit organization created explicitly to aid in the enhancement and recovery of anadromous salmon populations - particularly the threatened LCR ESUs listed above - in the Lewis River Basin in the State of Washington. The organization proposes to undertake projects that will enhance and restore salmon habitat on private property adjacent to and in the Lewis River. The proposed activities would restore natural aquatic or riparian habitat processes or conditions, and selectively alter degraded habitat features to improve habitat conditions. All of Fish First's proposed projects were developed in response to a Limiting Factors Analysis completed in association with the Washington State Conservation Commission.

The enhancement projects proposed in the application include: (1) restoration of fish passage areas from which salmon have been blocked due to anthroprogenic activities; (2) obliteration of old roads and old road crossings to restore riparian and floodplain habitats; (3) riparian enhancements, such as planting native vegetation and restricting livestock access via fencing; (4) reconnecting off-channel habitat including old side channels, oxbows and wetlands to improve salmon rearing habitat and water quality; (5) nutrient enhancement by salmon carcass placement to improve watershed productivity; (6) placement of large woody debris to increase channel complexity and improve instream conditions for adult and juvenile salmon; (7) supplementing spawning gravel in stream reaches with limited gravel supply; (8) creating in-stream habitat and pool riffle sequences in stream reaches simplified and degraded by historic anthropogenic activities.

In addition, Fish First will undertake continuous watershed assessments and monitoring of restoration and enhancement project activities, their impacts on listed salmon, their structural stability, vegetation plantings and fish use. Fish First will provide annual reports of such assessments and monitoring to NMFS, so that the results of the actions can be measured and so that projects can be modified as needed. Fish First will also monitor all take and provide NMFS with annual reports indicating the type of take and amount of take, including whether any fish were killed.

The proposed activities by Fish First will be carried out solely for the benefit of listed salmon; that is, for the enhancement of survival of listed species as contemplated by section 10 (a)(1)(A) of the ESA. They are not activities incidental to some otherwise lawful actions. The proposed activities by Fish First may result in take of adult and juvenile LCR salmon, primarily in the form of harassment, but also some capture, handle, release. Fish First will take specific measures, such as designing, scheduling, and sequencing construction work, to minimize any impacts. In-water project work will occur during NMFS approved work windows. If fish capture is needed to de-water a work site, the capture, handle and release of fish will be done by qualified fisheries biologists according to the established procedures and conditions NMFS imposes in other scientific research permits for listed ESUs. However, the organization will try to do its work when fish are not present. Fish First will also comply with Washington State permits, including any intended to protect water quality. Because the habitat actions are designed specifically to enhance the survival of the listed salmon, the impacts of the habitat modifications will be beneficial to the survival and recovery of the listed LCR ESUs. Complete details of the proposed activities, specific locations and anticipated take are provided in the permit application.

This notice is provided pursuant to section 10(c) of the ESA. NMFS will evaluate the application, associated documents and comments submitted to determine whether the application meets the requirements of section 10(a) of the ESA and Federal regulations. The final permit decision will not be made until after the end of the 30-day comment period and after NMFS has fully considered all public comments received. NMFS will publish notice of its final action in the Federal Register.

Dated: March 28, 2003.
Phil Williams,
Chief, Endangered Species Division, Office of Protected Resources, National Marine Fisheries Service.

[FR Doc. 03-7966 Filed 4-1-03; 8:45 am]

BILLING CODE 3510-22-S